DEPARTMENT OF TRANSPORTATION

Coast Guard

33 CFR Part 117

[GGD07-00-092]

Drawbridge Operation Regulations; CSX Railroad Bridge (South Fork of the New River), Ft. Lauderdale, Broward County, FL

AGENCY: Coast Guard, DOT.

ACTION: Notice of temporary deviation from regulations.

SUMMARY: The Commander, Seventh Coast Guard District, has approved a temporary deviation from the regulations governing the operation of the CSX Railroad Drawbridge across the South Fork of the New River, mile 2.8, Ft. Lauderdale, Broward County, Florida. This deviation allows the drawbridge owner not to open for vessel traffic. This temporary deviation is required October 7, 2000 from 6:00 a.m. until 12:00 p.m., to allow the bridge owner to safely complete repairs to the drawbridge.

DATES: This deviation is effective on October 7, 2000, from 6:00 a.m. until 12:00 p.m.

FOR FURTHER INFORMATION CONTACT: Mr. Barry Dragon, Chief, Operations Section, Seventh Coast Guard District, Bridge Section at (305) 415-6743.

SUPPLEMENTARY INFORMATION: The CSX Railroad Drawbridge across the South Fork of the New River at Ft. Lauderdale, has a vertical clearance of 2 feet above mean high water (MHW) measured at the fenders in the closed position. On July 11, 2000 the owner, requested a deviation from the current operating regulation in 33 CFR 117.5 which requires the drawbridge to open promptly and fully when a request to open is given. This temporary deviation was requested to allow necessary repairs to the drawbridge in a critical time sensitive manner.

The District Commander has granted a temporary deviation from the operating requirements listed in 33 CFR 117.5 for the purpose of repair completion of the drawbridge. Under this deviation, the CSX Railroad Drawbridge (South Fork of the New River) need not open. The deviation is effective on October 7, 2000 from 6:00 a.m. until 11:59 p.m.

Dated: September 22, 2000.
G.E. Shapley,
Chief, Bridge Administration, Seventh Coast Guard District.

[FR Doc. 00-25486 Filed 10-3-00; 8:45 am]

BILLING CODE 4910-15-M